FEDERAL TRADE COMMISSION

Agency Information Collection Activities; Submission for OMB Review; Comment Request

AGENCY: Federal Trade Commission (FTC).

ACTION: Notice and request for comment.

SUMMARY: The FTC requests that the Office of Management and Budget (OMB) extend for three years the current PRA clearance for information collection requirements contained in the Rule Governing Pre-sale Availability of Written Warranty Terms. The current clearance expires on April 30, 2020.

DATES: Comments must be received by April 29, 2020.

ADDRESSES: Comments in response to this notice should be submitted to the OMB Desk Officer for the Federal Trade Commission within 30 days of this notice. You may submit comments using any of the following methods:

Electronic: Write “Pre-sale Availability Rule: PRA Comment, P072108,” on your comment and file your comment online at https://www.regulations.gov, by following the instructions on the web-based form.

Email: MBX.OMB.OIRA.Submission@OMB.eop.gov.

Fax: (202) 395-5806.

Mail: Office of Information and Regulatory Affairs, Office of Management and Budget, Attention: Desk Officer for the Federal Trade Commission, New Executive Office Building, Docket Library, Room 10102, 725 17th Street NW, Washington, DC 20503.

FOR FURTHER INFORMATION CONTACT: Christine M. Todaro, Attorney, Division of Marketing Practices, Bureau of Consumer Protection, Federal Trade Commission, 600 Pennsylvania Avenue NW, Washington, DC 20580, (202) 326-3711.

SUPPLEMENTARY INFORMATION: Title: Pre-sale Availability of Written Warranty Terms (Pre-Sale Availability Rule or Rule), 16 CFR 702.

OMB Control Number: 3084-0112.

Type of Review: Extension of a currently approved collection.

Abstract: On December 31, 2019, the FTC sought public comment on the information collection requirements associated with the Rule. 84 FR 72362. No germane comments were received.¹ Pursuant to the OMB regulations, 5 CFR part 1320, that implement the PRA, 44 U.S.C. 3501 et seq., the FTC is providing this second opportunity for public comment while seeking OMB approval to renew the pre-existing clearance for the Rule.

¹ The Commission received nine non-germane comments.

The Pre-sale Availability Rule, 16 CFR 702, is one of three rules ² that the FTC issued as required by the Magnuson Moss Warranty Act, 15 U.S.C. 2301 et seq. (Warranty Act or Act).³ This Rule requires sellers and warrantors to make the text of any written warranty on a consumer product costing more than $15 available to the consumer before sale. Among other things, the Rule requires sellers to make the text of the warranty readily available either by (1) displaying it in close proximity to the product or (2) furnishing it on request and posting signs in prominent locations advising consumers that the warranty is available. The Rule requires warrantors to provide materials to enable sellers to comply with the Rule's requirements and also sets out the methods by which warranty information can be made available before the sale if the product is sold through catalogs, mail order, or door to door sales. In addition, in 2016, the FTC revised the Rule to allow warrantors to post warranty terms on internet websites if they also provide a non-internet based method for consumers to obtain the warranty terms and satisfy certain other conditions. The revised Rule also allows certain sellers to display warranty terms pre-sale in an electronic format if the warrantor has used the online method of disseminating warranty terms.

² The other two rules relate to the information that must appear in a written warranty on a consumer product costing more than $15 if a warranty is offered and minimum standards for informal dispute settlement mechanisms that are incorporated into a written warranty.

³ 40 FR 60168 (Dec. 31, 1975).

Likely Respondents: Manufacturers and retailers of consumer products.

Estimated Annual Hours Burden: 3,069,314 hours (170,417 hours for manufacturers + 2,898,897 hours for retailers).

• Manufacturers account for approximately 170,417 hours ((742 large manufacturers × 21.5 hours) + (30,287 small manufacturers × 5.1 hours))

• Retailers account for approximately 2,898,897 hours ((8,628 large retailers × 20.8 burden hours) + (566,549 small retailers × 4.8 burden hours))

Estimated Annual Cost Burden: $70,594,222 (which is derived from $36,831,768 for sales associates + $33,762,454 for clerical workers).⁴

⁴ The wage rates used in this Notice reflect data from the Bureau of Labor Statistics, Occupational Employment and Wages (May 2018), available at http://www.bls.gov/news.release/pdf/ocwage.pdf.

• Sales Associates: (1,534,657 hours) ($24/hour) = $36,831,768

• Clerical Workers: (1,534,657 hours) ($22/hour) = $33,762,454

Total Annual Capital or Other Non-labor Costs: De minimis.

Request for Comment

Your comment—including your name and your state—will be placed on the public record of this proceeding at the https://www.regulations.gov website. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2020-06579 Filed 3-27-20; 8:45 am]

BILLING CODE 6750-01-P